DEPARTMENT OF COMMERCE

International Trade Administration

[A-570-863]

Honey From the People's Republic of China: Partial Rescission of Antidumping Duty Administrative Review; 2017-2018

AGENCY: Enforcement and Compliance, International Trade Administration, Department of Commerce.

SUMMARY: The Department of Commerce (Commerce) is partially rescinding its administrative review of the antidumping duty (AD) order on honey from the People's Republic of China (China) for the period of review (POR) December 1, 2017, through November 30, 2018.

DATES: Applicable June 24, 2019.

FOR FURTHER INFORMATION CONTACT: Jasun Moy or Kabir Archuletta, AD/CVD Operations, Office V, Enforcement and Compliance, International Trade Administration, U.S. Department of Commerce, 1401 Constitution Avenue NW, Washington, DC 20230; telephone: (202) 482-8194 or (202) 482-2593, respectively.

SUPPLEMENTARY INFORMATION:

Background

On December 3, 2018, Commerce published in the Federal Register a notice of “Opportunity to Request an Administrative Review” of the AD order on honey from China for the period December 1, 2017, through November 30, 2018.¹ In December 2018, Commerce received timely requests to conduct administrative reviews of the AD order on honey from China from the American Honey Producers Association and Sioux Honey Association's (collectively, the petitioners) and Jiangsu Runchen Agricultural/Sideline Foodstuff Co., Ltd (Runchen).² On March 14, 2019, in accordance with section 751(a) of the Tariff Act of 1930, as amended (the Act), and 19 CFR 351.221(c)(1)(i), Commerce initiated an administrative review of the AD order on honey from China with respect to these companies.³ On June 12, 2019, the petitioners timely withdrew their request for an administrative review of two companies.⁴

¹ See Antidumping or Countervailing Duty Order, Finding, or Suspended Investigation; Opportunity to Request Administrative Review, 83 FR 62293 (December 3, 2018).

² See the Petitioners' Letter “Petitioners' Request for Administrative Review; 2017-2018,” dated December 28, 2018; see also Runchen's Letter “Request for Administrative Review,” dated December 23, 2018.

³ See Initiation of Antidumping and Countervailing Duty Administrative Reviews, 84 FR 9297 (March 14, 2019).

⁴ See the Petitioners' Letter “Petitioners' Partial Withdrawal of Review Request,” dated June 12, 2019.

Partial Rescission

Pursuant to 19 CFR 351.213(d)(1), Commerce will rescind an administrative review, in whole or in part, if the party that requested the review withdraws its request within 90 days of the publication date of the notice of initiation of the requested review. The petitioners timely withdrew their review request, in part, and no other party requested a review of the companies for which the petitioners withdrew their requests. Of the three companies for which the petitioners requested an administrative review, the petitioners withdrew their request for review of two companies: (1) Inner Mongolia Komway Import & Export Co., Ltd and (2) Shenzhen Long Sheng Shang Mao Ltd.⁵ Accordingly, we are rescinding this review of honey from China for the period December 1, 2017, through November 30, 2018, in part, with respect to these entities, in accordance with 19 CFR 351.213(d)(1). The review will continue with respect to the following company: Jiangsu Runchen Agricultural/Sideline Foodstuff Co., Ltd.

⁵ Id.

Assessment

Commerce will instruct U.S. Customs and Border Protection (CBP) to assess antidumping duties on all appropriate entries. For the companies for which this review is rescinded, antidumping duties shall be assessed at rates equal to the cash deposit rate of estimated antidumping duties required at the time of entry, or withdrawal from warehouse, for consumption, in accordance with 19 CFR 351.212(c)(1)(i). Commerce intends to issue appropriate assessment instructions to CBP 15 days after publication of this notice in the Federal Register.

Notification to Importers

This notice serves as the only reminder to importers whose entries will be liquidated as a result of this rescission notice, of their responsibility under 19 CFR 351.402(f)(2) to file a certificate regarding the reimbursement of antidumping duties prior to liquidation of the relevant entries during this review period. Failure to comply with this requirement could result in the presumption that reimbursement of the antidumping duties occurred and the subsequent assessment of double antidumping duties.

Notification Regarding Administrative Protective Order

This notice also serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This notice is issued and published in accordance with sections 751 and 777(i)(l) of the Act and 19 CFR 351.213(d)(4).

Dated: June 18, 2019.
James Maeder,
Acting Deputy Assistant Secretary for Antidumping and Countervailing Duty Operations.

[FR Doc. 2019-13363 Filed 6-21-19; 8:45 am]

BILLING CODE 3510-DS-P